DEPARTMENT OF HEALTH AND HUMAN SERVICES

Administration for Children and Families

Proposed Information Collection Activity; Administration of Psychotropic Medication to Unaccompanied Children (New Collection)

AGENCY: Office of Refugee Resettlement, Administration for Children and Families, U.S. Department of Health and Human Services.

ACTION: Request for public comments.

SUMMARY: The Office of Refugee Resettlement (ORR), Administration for Children and Families (ACF), U.S. Department of Health and Human Services is inviting public comment on the proposed collection. The request consists of two forms that will allow the Unaccompanied Children (UC) Bureau to obtain informed consent from authorized consenters and informed assent or agreement from unaccompanied children for the administration of psychotropic medication.

DATES: Comments due September 20, 2024. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ORR UC Bureau is proposing two new forms: Psychotropic Medication Informed Consent (Form MMH-1) and Psychotropic Medication Assent Notice (Form MMH-2). The proposed information collection is necessary to allow the ORR UC Bureau to comply with a court order and improve processes for the administration of psychotropic medication. On June 29, 2018, Plaintiffs filed their federal class action lawsuit in the Central District of California, western division, captioned Lucas R. et al. v. Becerra et al. (Case No. 2:18-CV-05741 DMG PLA), asserting claims under the Flores consent decree, the Trafficking Victims Protection Reauthorization Act, the Due Process clause, and the First Amendment. Plaintiffs allege violation of unaccompanied children rights in decisions regarding family reunification, placement in restrictive facilities, services for children with disabilities, administration of psychotropic medication, and access to legal assistance. On May 3, 2024, the Court granted final approval for the settlement agreements of the Plaintiffs' claims for disabilities, psychotropic medication, and legal assistance. As part of the settlement agreement for the psychotropic medication claim, ORR is required, whenever possible, to obtain informed consent for the administration of psychotropic medication and provide certain information to the authorized consenter. Additionally, ORR is required to provide a written notice and obtain informed assent or agreement from children aged 14 or older before administering psychotropic medication. The psychotropic medication settlement agreement must be fully implemented by August 3, 2026, but data collection must be implemented by February 3, 2025, to ensure compliance with the Agreement.

Respondents: Care provider grantees and contractors

Annual Burden Estimates:

Form | Annual number of respondents | Number of responses per respondent | Average burden hours per response | Total annual burden hours
Psychotropic Medication Informed Consent (Form MMH-1) | 300 | 2 | 1.50 | 900
Psychotropic Medication Assent Notice (Form MMH-2) | 300 | 1 | 0.75 | 225

Estimated Total Annual Burden Hours: 1,125.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; 45 CFR 410; Flores v. Reno Settlement Agreement, No. CV85-4544-RJK (C.D. Cal. 1996); Lucas R. et al. v. Becerra et al. (Case No. 2:18-CV-05741 DMG PLA) Psychotropic Medication Settlement Agreement.

Mary C. Jones,
ACF/OPRE Certifying Officer.

[FR Doc. 2024-16043 Filed 7-19-24; 8:45 am]

BILLING CODE 4184-45-P